FEDERAL MINE SAFETY AND HEALTH REVIEW COMMISSION

Sunshine Act Meetings

May 12, 2008.

Time And Date: 10 a.m., Thursday, June 5, 2008.

Place: The Richard V. Backley Hearing Room, 9th Floor, 601 New Jersey Avenue, NW., Washington, DC.

Status: Open.

Matters to be Considered: The Commission will hear oral argument in the matter of Secretary of Labor v. Twentymile Coal Company, Docket No. WEST 2007-892-E. (Issues include whether the Secretary properly interpreted the breathable air provisions of section 316 of the Mine Act and whether the MSHA District Manager erred in refusing to approve the operator's emergency response plan unless it provided for a refuge chamber in the main entry.)

Any person attending this oral argument who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Jean H. Ellen,
Chief Docket Clerk.

[FR Doc. E8-11545 Filed 5-22-08; 8:45 am]

BILLING CODE 6735-01-M